NUCLEAR REGULATORY COMMISSION

[NRC-2010-0314; Docket Nos. 50-313 and 50-368]

Exemption; Entergy Operations, Inc.; Arkansas Nuclear One, Units 1 and 2

1.0 Background

Entergy Operations, Inc. (Entergy, the licensee) is the holder of Facility Operating License Nos. DPR-51 and NPF-6, which authorize operation of the Arkansas Nuclear One, Units 1 and 2 (ANO-1 and ANO-2), respectively. The licenses provide, among other things, that the facility is subject to all rules, regulations, and orders of the U.S. Nuclear Regulatory Commission (NRC, the Commission) now or hereafter in effect.

The facility consists of two pressurized-water reactors located in Pope County, Arkansas.

2.0 Request/Action

Title 10 of the Code of Federal Regulations, Part 50, Section 50.36a, paragraph (a)(2) (10 CFR 50.36a(a)(2)) requires each licensee to “submit a report to the Commission annually that specifies the quantity of each of the principal radionuclides released to unrestricted areas in liquid and in gaseous effluents during the previous 12 months, including any other information as may be required by the Commission to estimate maximum potential annual radiation doses to the public resulting from effluent releases. The report must be submitted as specified in § 50.4, and the time between submission of the reports must be no longer than 12 months. If quantities of radioactive materials released during the reporting period are significantly above design objectives, the report must cover this specifically.” The licensee submitted its Radioactive Effluent Release Report for the Calendar Year 2009 on February 25, 2010.

The ANO-1 Technical Specification (TS) 5.5.1 and ANO-2 TS 6.5.1 require the Radioactive Effluent Release Report, covering the operation of each unit in the previous year, to be submitted prior to May 1 of each year in accordance with 10 CFR 50.36a. Originally, both ANO-1 and ANO-2 TSs required this report be submitted either prior to March 1 or within 60 days of January 1 of each year. Later, during the ANO-1 TS conversion, the submittal date for ANO-1 became May 1. The licensee continued to send one submittal for the site as allowed by the TSs. The licensee also continued to submit the report in accordance with the March 1 deadline. Entergy proposed to reorganize Section 6 of the ANO-2 TS in 2003. The proposed changes were to make the ANO-2 requirements consistent with the ANO-1 TS requirements. These changes were subsequently approved by the NRC and the submittal date became “prior to May 1” of each year for both units. However, while the submittal dates were consistent again between the ANO-1 and ANO-2 TSs, the 12-month interval between submittals was not addressed. The actual submittal date remained at the end of February of each year because, the TS changes notwithstanding, the time between report submittals cannot be more than 12 months. As a result, a period of only 2 months is available to prepare and submit the report. With ANO continuing to send one submittal for the site, this presents an undue administrative burden on ANO personnel due to the compressed schedule for data collection, report preparation, and internal review following the closure of the reporting period.

Therefore, the licensee has requested a one-time exemption from the 12-month reporting criteria specified in 10 CFR 50.36a(a)(2) for its submittal of the calendar year 2010 Radioactive Effluent Release Report. The proposed exemption allows an additional 2 months for these activities to match the current submittal date stated in the TSs. In summary, the exemption does not affect the information required to be submitted or the time period the report covers, only the date the report is submitted. Subsequent submittals, pursuant to 10 CFR 50.36a(a)(2), will follow the 12-month reporting criteria.

The application for exemption, dated March 18, 2010, is publicly available in the Agencywide Documents Access and Management System (ADAMS) under ADAMS Accession No. ML100780094).

3.0 Discussion

Pursuant to 10 CFR 50.12, the Commission may, upon application by any interested person or upon its own initiative, grant exemptions from the requirements of 10 CFR Part 50, when (1) the exemptions are authorized by law, will not present an undue risk to public health or safety, and are consistent with the common defense and security; and (2) when special circumstances are present. These circumstances include the special circumstances that would provide only temporary relief from the applicable regulation and the licensee or applicant has made good faith efforts to comply with the regulation.

Authorized by Law

This exemption would allow the licensee to submit the 2010 Radioactive Effluent Release Report prior to May 1, 2011, which would exceed the report submittal requirement of no longer than 12 months specified in 10 CFR 50.36a(a)(2). As stated above, 10 CFR 50.12 allows the NRC to grant exemptions from the requirements of 10 CFR Part 50. The NRC staff has determined that granting of the licensee's proposed exemption will not result in a violation of the Atomic Energy Act of 1954, as amended, or the Commission's regulations. Therefore, the exemption is authorized by law.

No Undue Risk to Public Health and Safety

The underlying purpose of the reporting requirements specified in 10 CFR 50.36a(a)(2) is to report to the Commission annually the quantity of each of the principal radionuclides released to unrestricted areas in liquid and in gaseous effluents during the previous 12 months, including any other information as may be required by the Commission to estimate maximum potential annual radiation doses to the public resulting from effluent releases. This exemption does not affect the information required to be submitted or the time period the report covers, only the date the report is submitted. Based on the above, no new accident precursors are created by extending the submittal date for the 2010 Radioactive Effluent Release Report from prior to March 1 to prior to May 1, 2011. Thus, the probability of postulated accidents is not increased. Also, based on the above, the consequences of postulated accidents are not increased. Therefore, there is no undue risk to public health and safety.

Consistent With Common Defense and Security

The proposed exemption would allow the licensee to submit the 2010 Radioactive Effluent Release Report prior to May 1, 2011, which would exceed the report submittal requirement of no longer than 12 months specified in 10 CFR 50.36a(a)(2) by 2 months. This change has no relation to security issues. Therefore, the common defense and security is not impacted by this exemption.

Special Circumstances

Special circumstances, in accordance with 10 CFR 50.12(a)(2)(v), are present whenever application of the regulation would provide only temporary relief from the applicable regulation and the licensee or applicant has made good faith efforts to comply with the regulation. The underlying purpose of the reporting requirement specified in 10 CFR 50.36a(a)(2) is to require each licensee to submit a report to the Commission annually that specifies the quantity of each of the principal radionuclides released to unrestricted areas in liquid and in gaseous effluents, including any other information as may be required by the Commission to estimate maximum potential annual radiation doses to the public resulting from effluent releases. The proposed exemption does not affect the information required to be submitted or the time period the report covers, only the date the report is to be submitted. The requested exemption provides temporary relief from the regulation in that it affords a one-time extension for submitting the annual report. The proposed exemption is an appropriate means to ensure that future reports are submitted on an annual basis as required by 10 CFR 50.36a(a)(2). Therefore, since the underlying purpose of 10 CFR 50.36a(a)(2) is achieved, the special circumstances of 10 CFR 50.12(a)(2)(v) for the granting of an exemption from 10 CFR 50.36a(a)(2) exists.

4.0 Conclusion

Accordingly, the Commission has determined that, pursuant to 10 CFR 50.12(a), the exemption is authorized by law, will not present an undue risk to the public health and safety, and is consistent with the common defense and security. Also, special circumstances are present. Therefore, the Commission hereby grants Entergy Operations, Inc., a one-time exemption from the requirements of 10 CFR 50.36a(a)(2), for ANO-1 and ANO-2.

The Commission has determined that granting this one-time exemption from the requirements of a regulation of 10 CFR 50.36(a)(2) involves (i) no significant hazards consideration, (ii) no significant change in the types or significant increase in the amounts of any effluents that may be released offsite, (iii) no significant increase in individual or cumulative public or occupational radiation exposure, (iv) no significant construction impact, and (v) no significant increase in the potential for or consequences from radiological accidents. In addition, the requirements from which this exemption is sought involve reporting requirements in 10 CFR 50.36a(a)(2). Accordingly, the exemption meets the eligibility criteria for categorical exclusion set forth in 10 CFR 51.22(c)(25)(i)-(vi). Therefore, in accordance with 10 CFR 51.22(b), no environmental impact statement or environmental assessment need be prepared in connection with the NRC's consideration of this exemption.

This exemption is effective upon issuance.

Dated at Rockville, Maryland this 28th day of September 2010.
For the Nuclear Regulatory Commission.
Robert A. Nelson,
Acting Director, Division of Operating Reactor Licensing, Office of Nuclear Reactor Regulation.

[FR Doc. 2010-24806 Filed 10-1-10; 8:45 am]

BILLING CODE 7590-01-P